DEPARTMENT OF THE TREASURY

Departmental Offices; International Financial Institution Advisory Commission; Notice of Meeting

AGENCY: Department of the Treasury.

ACTION: Notice of meeting.

SUMMARY: Under section 603 of the Foreign Operations, Export Financing and Related Programs Appropriations Act, 1999, the International Financial Institution Advisory Commission (the “Commission”) shall advise the report to the Congress on the future role and responsibilities of the international financial institutions (defined as the International Monetary Fund, International Bank for Reconstruction and Development, European Bank for Reconstruction and Development, International Development Association, International Finance Corporation, Multilateral Investment Guarantee Agency, African Development Bank, African Development Fund, Asian Development Bank, Inter-American Development Bank, and Inter-American Investment Corporation), the World Trade Organization, and the Bank for International Settlements.

DATES: The tenth and eleventh meetings of the Advisory Commission will be held on February 1st and 2nd, 2000, beginning at 9 a.m. and ending tentatively at 3 p.m. in the Cash Room, of the United States Treasury at 15th and Pennsylvania Avenue, NW, Washington, DC.

FOR FURTHER INFORMATION CONTACT: Designated Federal Official: William McFadden, Senior Policy Advisor, Office of International Monetary and Financial Policy, Room 4444, Department of the Treasury, 1500 Pennsylvania Avenue NW, Washington, DC, 20220. Telephone number 202-622-0343, fax number (202) 622-7664.

SUPPLEMENTARY INFORMATION: Notice of these meetings is given under the Federal Advisory Committee Act, 5 U.S.C. App. 2.

Agenda of Meetings

The Commission members will focus on bankruptcy and contracts on February 1 and hold a public hearing for invited speakers on February 2.

Procedural

These meetings are open to the public. Please note that the meetings may close early if all business is finished. If you wish to attend, please FAX your full name, birthday, and social security number to the Designated Federal Official no later than 4 p.m., January 31, 2000 for clearance into the Treasury building. Members of the public, who have provided such information, must enter into the main Treasury building at the entrance on 15th Street between F and G Streets, and must provide a photo ID at the entrance to be admitted into the building.

Members of the public may submit when written comments. If you wish to furnish such comments, please provide 16 copies of your written material to the Designated Federal Official. If you wish to have your comments distributed to members of the Commission in advance of the tenth meeting, 16 copies of any written material should be provided to the Designated Federal Official no later than January 24, 2000.

Dated: January 13, 2000.
William McFadden,
Designated Federal Official.

[FR Doc. 00-1276 Filed 1-19-00; 8:45]

BILLING CODE 4810-25-M